INTERNATIONAL TRADE COMMISSION

Notice of Appointment of Individuals To Serve as Members of Performance Review Boards

AGENCY: United States International Trade Commission.

ACTION: Appointment of individuals to serve as members of Performance Review Board.

EFFECTIVE: June 17, 2000.

FOR FURTHER INFORMATION CONTACT: Micheal J. Hillier, Director of Personnel, U.S. International Trade Commission, (202) 205-2651.

SUPPLEMENTARY INFORMATION: The Chairman of the U.S. International Trade Commission has appointed the following individuals to serve on the Commission's Performance Review Board (PRB).

Chairman of PRB—Vice-Chairman Deanna Tanner Okun

Member—Commissioner Lynn M. Bragg

Member—Commissioner Marcia E. Miller

Member—Commissioner Jennifer A. Hillman

Member—Commissioner Thelma J. Askey

Member—Robert A. Rogowsky

Member—Lyn M. Schlitt

Member—Stephen A. McLaughlin

Member—Eugene A. Rosengarden

Member—Lynn Featherstone

Member—Vern Simpson

Member—Lynn I. Levine

Member—Robert B. Koopman

Notice of these appointments is being published in the Federal Register pursuant to the requirement of 5 U.S.C. 4314(c)(4).

Hearing-impaired individuals are advised that information on this matter can be obtained by contacting our TDD terminal on (202) 205-1810.

Issued: June 20, 2000.
By order of the Chairman.
Donna R. Koehnke,
Secretary.

[FR Doc. 00-16098 Filed 6-23-00; 8:45 am]

BILLING CODE 7020-02-P